NUCLEAR REGULATORY COMMISSION

[Docket No. 040-02377]

Notice of Consideration of Amendment Request for Kaiser Aluminum and Chemical Corporation, Tulsa, Oklahoma, and Opportunity for Providing Comments and Requesting a Hearing

AGENCY: Nuclear Regulatory Commission.

ACTION: Consideration of Approval of a revision to the Decommissioning Plan for the Kaiser Aluminum and Chemical Corporation Facility in Tulsa, Oklahoma, and an Opportunity for a Hearing.

FOR FURTHER INFORMATION CONTACT: John T. Buckley, Decommissioning Branch, Division of Waste Management, Office of Nuclear Material Safety and Safeguards, U.S. Nuclear Regulatory Commission, Washington, DC 20555-0001. Telephone: (301) 415-6607, fax number (301) 415-5398.

SUPPLEMENTARY INFORMATION:

I. Introduction

The U.S. Nuclear Regulatory Commission (NRC) is considering approval of a revision to the Phase 2 Decommissioning Plan (DP) for the Kaiser Aluminum and Chemical Corporation (Kaiser) Facility in Tulsa, Oklahoma. Decommissioning of the Kaiser facility is being conducted in two Phases. In Phase 1, Kaiser remediated the land adjacent to the Kaiser property. In Phase 2, Kaiser will remediate its facility. On May 25, 2001, Kaiser submitted the Phase 2 DP. The Phase 2 DP was noticed in the Federal Register on October 30, 2001(66 FR54792). NRC approved the Phase 2 DP on June 8, 2003.

On October 6, 2003, Kaiser submitted a request to revise Chapter 14 of the DP. The revision will correct an error in Chapter 14, which incorrectly identified the Average Derived Concentration Level (ADCLw) as the acceptance criteria for the 14 acre pond parcel area of the site. Kaiser has stated that the revisions to Chapter 14 will not change the scope of the work in the approved DP.

Prior to approving the DP revision, NRC will make findings in accordance with the Atomic Energy Act of 1954, as amended, and NRC's regulations. These findings will be documented in a Safety Evaluation Report and an Environmental Assessment.

II. Opportunity To Provide Comments

In accordance with 10 CFR 20.1405, the NRC is providing notice to individuals in the vicinity of the site that the NRC is in receipt of a revision to the Phase 2 DP, and will accept comments concerning this proposed modification to the DP and its associated environmental impacts. Comments with respect to this action should be provided in writing within 30 days of this notice and addressed to John T. Buckley, Decommissioning Branch, Division of Waste Management, Office of Nuclear Material Safety and Safeguards, U.S. Nuclear Regulatory Commission, Washington, DC 20555-0001. Telephone: (301) 415-6607, fax number (301) 415-5398, e-mail: jtb@nrc.gov. Comments received after 30 days will be considered if practicable to do so, but only those comments received on or before the due date can be assured consideration.

III. Opportunity To Request a Hearing

Although Kaiser is no longer a licensee subject to subpart L, “Informal Hearing Procedures for Adjudication in Material Licensing Proceedings,” of NRC's rules and practice for domestic licensing proceedings in 10 CFR part 2. Discretion is being exercised in this case because of: (1) The unusually large volume of soil to be removed from the site; (2) the significant complexity of this project; and, (3) the close proximity of the site to a major population center. Whether or not a person has or intends to provide comments as set out in Section II above, pursuant to Section 2.1205(a), any person whose interest may be affected by this proceeding may file a request for a hearing in accordance with Section 2.1205(d). A request for a hearing must be filed within thirty (30) days of the date of publication of this Federal Register notice.

The request for a hearing must be filed with the Office of the Secretary either:

1. By delivery to Secretary, U.S. Nuclear Regulatory Commission, One White Flint North, 11555 Rockville Pike, Rockville, MD 20852-2738, between 7:45 a.m. and 4:15 p.m., Federal workdays; or

2. By mail, telegram, or facsimile (301-415-1101) addressed to the Secretary, U.S. Nuclear Regulatory Commission, Washington, DC 20555-0001. Attention: Rulemakings and Adjudications Staff. Because of continuing disruptions in the delivery of mail to United States Government offices, it is requested that requests for hearing also be transmitted to the Secretary of the Commission either by means of facsimile transmission to 301-415-1101, or by e-mail to <hearingdocket@nrc.gov>.

In accordance with 10 CFR 2.1205(f), each request for a hearing must also be served, by delivering it personally or by mail, to:

1. The applicant, Kaiser Aluminum and Chemical Corporation, 9141 Interline Avenue, Suite 1A, Baton Rouge, LA 70809-1957, Attention: Mr. J. W. Vinzant and;

2. The NRC staff, by delivery to the General Counsel, U.S. Nuclear Regulatory Commission, One White Flint North, 11555 Rockville Pike, Rockville, MD 20852-2738, between 7:45 a.m. and 4:15 p.m., Federal workdays, or by mail, addressed to General Counsel, U.S. Nuclear Regulatory Commission, Washington, DC 20555-0001. Because of continuing disruptions in the delivery of mail to United States Government offices, it is requested that requests for hearing be also transmitted to the Office of the General Counsel, either by means of facsimile transmission to (301) 415-3725, or by e-mail to ogcmailcenter@nrc.gov.

In addition to meeting other applicable requirements of 10 CFR part 2 of NRC's regulations, a request for a hearing filed by a person other than an applicant must describe in detail:

1. The interest of the requester in the proceeding;

2. How that interest may be affected by the results of the proceeding, including the reasons why the requestor should be permitted a hearing, with particular reference to the factors set out in Section 2.1205(h);

3. The requestor's area of concern about the licensing activity that is the subject matter of the proceeding; and

4. The circumstances establishing that the request for a hearing is timely in accordance with § 2.1205(d).

IV. Further Information

The application for the license amendment and supporting documentation are available for inspection at NRC's Public Electronic reading Room at: http://www.nrc.gov/reading-rm/adams.html. The ADAMS Accession No. for the license amendment request is ML032820302.

Dated at Rockville, Maryland, this 3rd day of November, 2003.
For The Nuclear Regulatory Commission.
Daniel M. Gillen,
Chief, Decommissioning Branch, Division of Waste Management, Office of Nuclear Material Safety and Safeguards.

[FR Doc. 03-28183 Filed 11-7-03; 8:45 am]

BILLING CODE 7590-01-P